FEDERAL TRADE COMMISSION

16 CFR Part 423

[RIN 3084-AB28]

Care Labeling of Textile Wearing Apparel and Certain Piece Goods as Amended

AGENCY: Federal Trade Commission (“FTC” or “Commission”).

ACTION: Advance notice of proposed rulemaking; request for public comment.

SUMMARY: As part of the Commission=s systematic review of all current FTC rules and guides, the Commission requests public comment on the overall costs, benefits, necessity, and regulatory and economic impact of the FTC's Rule on Care Labeling of Textile Wearing Apparel and Certain Piece Goods as Amended (“Care Labeling Rule” or “Rule”). The Commission also requests comment on whether it should modify the Rule's provision permitting the use of care symbols or modify the Rule to address either the disclosure of care instructions in languages other than English or the practice of professional wetcleaning.

DATES: Written comments must be received on or before September 6, 2011.

ADDRESSES: Interested parties may file a comment online or on paper, by following the instructions in the Request for Comment part of the SUPPLEMENTARY INFORMATION section below. Write “Care Labeling Rule, 16 CFR Part 423, Project No. R511915” on your comment, and file your comment online at https://ftcpublic.commentworks.com/ftc/carelabelinganpr by following the instructions on the web-based form. If you prefer to file your comment on paper, mail or deliver your comment to the following address: Federal Trade Commission, Office of the Secretary, Room H-113 (Annex A), 600 Pennsylvania Avenue, NW., Washington, DC 20580.

FOR FURTHER INFORMATION CONTACT: Robert M. Frisby, Attorney, Division of Enforcement, Bureau of Consumer Protection, Federal Trade Commission, 600 Pennsylvania Avenue, NW., Washington, DC 20580, (202) 326-2098.

SUPPLEMENTARY INFORMATION:

I. Background

The Rule makes it an unfair or deceptive act or practice for manufacturers and importers of textile wearing apparel and certain piece goods to sell these items without attaching care labels stating “what regular care is needed for the ordinary use of the product.” ¹ The Rule also requires that the manufacturer or importer possess, prior to sale, a reasonable basis for the care instructions,² and allows the use of approved care symbols in lieu of words to disclose care instructions.³

¹ 16 CFR 423.5 and 423.6(a) and (b).

² 16 CFR 423.6(c).

³ The Rule provides that the symbol system developed by ASTM International, formerly the American Society for Testing and Materials, and designated as ASTM Standard D5489-96c “Guide to Care Symbols for Care Instructions on Consumer Textile Products” may be used on care labels or care instructions in lieu of terms so long as the symbols fulfill the requirements of Part 423. 16 CFR 423.8(g).

The Commission promulgated the Rule in 1971, and has amended it three times since.⁴ In 1983, the Commission amended the Rule to clarify its requirements regarding the disclosure of washing and drycleaning information.⁵ In 1997, the Commission adopted a conditional exemption to allow the use of symbols in lieu of words.⁶ In 2000, the Commission amended the Rule to clarify what constitutes a reasonable basis for care instructions, and to change the Rule's definitions of “cold,” “warm,” and “hot” water.⁷

⁴ Federal Trade Commission: Care Labeling of Textile Wearing Apparel: Promulgation of Trade Rule and Statement of Basis and Purpose, 36 FR 23883 (Dec. 16, 1971).

⁵ Federal Trade Commission: Amendment to Trade Regulation Rule Concerning Care Labeling of Textile Wearing Apparel and Certain Piece Goods, 48 FR 22733 (May 20, 1983).

⁶ Federal Trade Commission: Concerning Trade Regulation Rule on Care Labeling of Textile Wearing Apparel and Certain Piece Goods; Conditional Exemption from Terminology Section of the Care Labeling Rule, 62 FR 5724 (Feb. 6, 1997).

⁷ Federal Trade Commission: Trade Regulation Rule on Care Labeling of Textile Wearing Apparel and Certain Piece Goods, Final Amended Rule, 65 FR 47261 (Aug. 2, 2000).

At the same time it amended the Rule in 2000, the Commission rejected two amendments it had proposed earlier. First, the Commission decided not to require labels with instructions for home washing on items that one can safely clean by home washing. The Commission was not convinced that the evidence was sufficiently compelling to justify this change, and concluded that the benefits of the proposed change were highly uncertain.⁸ Second, the Commission decided not to establish a definition for “professional wetcleaning” or permit manufacturers to label a garment that one can professionally wetclean with a “Professionally Wetclean” instruction.⁹ The Commission stated that it was premature to allow such an instruction before the development of a suitable definition and an appropriate test method.¹⁰ The Commission added that it would consider such an instruction if a more specific definition and/or test procedure were developed which would provide manufacturers with a reasonable basis for a wetcleaning instruction.¹¹

⁸ Id. at 47269.

⁹ The Commission proposed a definition of professional wetcleaning stating in part that it is “a system of cleaning by means of equipment consisting of a computer-controlled washer and dryer, wet cleaning software, and biodegradable chemicals specifically formulated to safely wet clean wool, silk, rayon, and other natural and man-made fibers.” Id. at 47271 n. 99.

¹⁰ Id. at 47272.

¹¹ Id. at 47273.

The International Organization for Standardization (“ISO”) has now developed standards relating to wetcleaning.¹² These standards and other developments may warrant amendments to the Rule regarding wetcleaning.

¹² These include ISO 3175-4: 2003, “Textiles—Professional care, drycleaning and wetcleaning of fabrics and garments—Part 4: Procedure for testing performance when cleaning and finishing using simulated wetcleaning” and ISO 3758: 2005, “Textiles—Care labelling code using symbols.”

Finally, ASTM International (“ASTM”) has developed ASTM D5489-07 “Standard Guide for Care Symbols for Care Instructions on Textile Products,” an updated version of the ASTM standard referenced in Section 423.8(g) of the Rule. As noted earlier, that section provides that the symbol system set forth in ASTM Standard D5489-96c “Guide to Care Symbols for Care Instructions on Consumer Textile Products” may be used on care labels or instructions in lieu of words. Some labels use symbols other than those allowed by the Rule. Further, some labels provide care instructions in English and other languages. These developments may warrant amendments regarding the use of symbols, such as updating the Rule to reference the latest ASTM standard, and disclosure of care instructions in multiple languages.

II. Regulatory Review Program

The Commission reviews its rules and guides periodically. These reviews seek information about the costs and benefits of the rules and guides as well as their regulatory and economic impact. These reviews assist the Commission in identifying rules and guides that warrant modification or rescission. Therefore, the Commission now solicits comments on, among other things, the economic impact of, and the continuing need for, the Care Labeling Rule, the benefits of the Rule to consumers purchasing products covered by the Rule, and the burdens the Rule places on firms subject to its requirements.

III. Request for Comment

The Commission solicits comments on the following specific questions related to the Care Labeling Rule:

(1) Is there a continuing need for the Rule as currently promulgated? Why or why not?

(2) What benefits has the Rule provided to, or what significant costs has the Rule imposed on, consumers? Provide any evidence supporting your position.

(3) What modifications, if any, should the Commission make to the Rule to increase its benefits or reduce its costs to consumers?

(a) Provide any evidence supporting your proposed modifications.

(b) How would these modifications affect the costs and benefits of the Rule for consumers?

(c) How would these modifications affect the costs and benefits of the Rule for businesses, particularly small businesses?

(4) What impact has the Rule had on the flow of truthful information to consumers and on the flow of deceptive information to consumers? Provide any evidence supporting your position.

(5) What benefits, if any, has the Rule provided to, or what significant costs, including costs of compliance, has the Rule imposed on businesses, particularly small businesses? Provide any evidence supporting your position.

(6) What modifications, if any, should be made to the Rule to increase its benefits or reduce its costs to businesses, particularly small businesses?

(a) Provide any evidence supporting your proposed modifications.

(b) How would these modifications affect the costs and benefits of the Rule for consumers?

(c) How would these modifications affect the costs and benefits of the Rule for businesses, particularly small businesses?

(7) Provide any evidence concerning the degree of industry compliance with the Rule. Does this evidence indicate that the Rule should be modified? If so, why, and how? If not, why not?

(8) Provide any evidence concerning whether any of the Rule's provisions are no longer necessary. Explain why these provisions are unnecessary.

(9) What potentially unfair or deceptive practices concerning care labeling, not covered by the Rule, are occurring in the marketplace?

(a) Provide any evidence, such as empirical data, consumer perception studies, or consumer complaints, demonstrating the extent of such practices.

(b) Provide any evidence demonstrating whether such practices cause consumer injury.

(c) With reference to such practices, should the Rule be modified? If so, why, and how? If not, why not?

(10) What modifications, if any, should be made to the Rule to account for current or impending changes in technology or economic conditions?

(a) Provide any evidence supporting the proposed modifications.

(b) How would these modifications affect the costs and benefits of the Rule for consumers and businesses, particularly small businesses?

(11) Does the Rule overlap or conflict with other federal, state, or local laws or regulations? If so, how?

(a) Provide any evidence supporting your position.

(b) With reference to the asserted conflicts, should the Rule be modified? If so, why, and how? If not, why not?

(c) Provide any evidence concerning whether the Rule has assisted in promoting national consistency with respect to care labeling.

(12) Are there foreign or international laws, regulations, or standards with respect to care labeling that the Commission should consider as it reviews the Rule? If so, what are they?

(a) Should the Rule be modified in order to harmonize with these international laws, regulations, or standards? If so, why, and how? If not, why not?

(b) How would such harmonization affect the costs and benefits of the Rule for consumers and businesses, particularly small businesses?

(c) Provide any evidence supporting your position.

(13) Should the Commission modify the Rule to address the use of professional wetcleaning? If so, why and how? If not, why not? Provide any evidence supporting your position.

(14) Should the Commission modify the Rule to address the development of ASTM D5489-07 “Standard Guide for Care Symbols for Care Instructions on Textile Products” or the use of symbols other than those set forth in the ASTM Standard D5489-96c “Guide to Care Symbols for Care Instructions on Consumer Textile Products”? If so, why and how? If not, why not? Provide any evidence supporting your position.

(15) Should the Commission modify the Rule to address disclosure of care instructions in languages other than English? If so, why and how? If not, why not? Provide any evidence supporting your position.

You can file a comment online or on paper. For the Commission to consider your comment, we must receive it on or before September 6, 2011. Write “Care Labeling Rule, 16 CFR Part 423, Project No. R511915” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment doesn't include any sensitive personal information, like anyone's Social Security number, date of birth, driver's license number or other state identification number or foreign country equivalent, passport number, financial account number, or credit or debit card number. You are also solely responsible for making sure that your comment doesn't include any sensitive health information, like medical records or other individually identifiable health information. In addition, don't include any “[t]rade secret or any commercial or financial information which is obtained from any person and which is privileged or confidential,” as provided in Section 6(f) of the FTC Act, 15 U.S.C. 46(f), and FTC Rule 4.10(a)(2), 16 CFR 4.10(a)(2). In particular, don't include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).¹³ Your comment will be kept confidential only if the FTC General Counsel, in his or her sole discretion, grants your request in accordance with the law and the public interest.

¹³ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/carelabelinganpr by following the instructions on the Web-based form. If this Notice appears at http://www.regulations.gov/#!home, you also may file a comment through that Web site.

If you file your comment on paper, write “Care Labeling Rule, 16 CFR Part 423, Project No. R511915” on your comment and on the envelope, and mail or deliver it to the following address: Federal Trade Commission, Office of the Secretary, Room H-113 (Annex A), 600 Pennsylvania Avenue, NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before September 6, 2011. You can find more information, including routine uses permitted by the Privacy Act, in the Commission's privacy policy, at http://www.ftc.gov/ftc/privacy.htm.

List of Subjects in 16 CFR Part 423

Care labeling of textile wearing apparel and certain piece goods; Trade practices.

Authority: 15 U.S.C. 41-58.

By direction of the Commission.
Donald S. Clark,
Secretary.

[FR Doc. 2011-17512 Filed 7-12-11; 8:45 am]

BILLING CODE 6750-01-P